ENVIRONMENTAL PROTECTION AGENCY

40 CFR Part 141

[EPA-HQ-OW-2022-0801; FRL-10287-01-OW]

Notice of Public Meeting: Environmental Justice Considerations for the Development of the Proposed Lead and Copper Rule Improvements (LCRI)

AGENCY: Environmental Protection Agency (EPA).

ACTION: Notice of public meeting.

SUMMARY: The Environmental Protection Agency (EPA) is hosting two identical public meetings to discuss and solicit input on environmental justice considerations related to the development of the proposed Lead and Copper Rule Improvements (LCRI) national primary drinking water regulation (NPDWR) under the Safe Drinking Water Act (SDWA). In the context of developing this proposed regulation, environmental justice considerations include the fair treatment and meaningful involvement of all people regardless of race, color, national origin, or income with respect to the development, implementation, and enforcement of environmental laws, regulations, and policies with a particular focus on unique challenges faced by communities disproportionately burdened by environmental harms and risks. EPA is holding these meetings to share information and provide an opportunity for communities to offer input on environmental justice considerations for the development of the proposed LCRI. Information on how to register and request to speak during one of the meetings is detailed in the SUPPLEMENTARY INFORMATION section of this announcement.

DATES: Comments must be received on or before November 15, 2022. The two identical public meetings will be held on October 25, 2022 (1 p.m. to 4 p.m., eastern time) and November 1, 2022 (5 p.m. to 8 p.m., eastern time). The public meetings will be held in an online-only format.

ADDRESSES: You may send comments, identified by Docket ID No. EPA-HQ-OW-2022-0801, to the Federal eRulemaking Portal: https://www.regulations.gov/. Follow the online instructions for submitting comments.

Instructions: All submissions received must include the Docket ID No. EPA-HQ-OW-2022-0801 for this action. Comments received may be posted without change to https://www.regulations.gov/, including any personal information provided. For detailed instructions on sending comments and additional information on the rulemaking process, see the “Public Participation” heading of the SUPPLEMENTARY INFORMATION section of this announcement.

FOR FURTHER INFORMATION CONTACT: Zaineb Alattar, Standards and Risk Management Division, Office of Ground Water and Drinking Water, U.S. Environmental Protection Agency, 1200 Pennsylvania Ave. NW, Washington, DC 20460; telephone number: (202) 564-9458; email address: LCRI@epa.gov. For more information about the proposed LCRI NPDWR, visit: https://www.epa.gov/ground-water-and-drinking-water/lead-and-copper-rule-improvements.

SUPPLEMENTARY INFORMATION:

I. Public Participation

These online meetings will be open to the public and EPA encourages input and will provide opportunities for public engagement on environmental justice related to development of the proposed LCRI.

A. Written Comments

Submit your comments, identified by Docket ID No, EPA-HQ-OW-2022-0801 at https://www.regulations.gov; see instructions identified in the ADDRESSES section of this announcement. Once submitted, comments cannot be edited or removed from the docket. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

B. Participation in Public Meeting

Registration: Individuals planning to participate in either of the online public meetings must register at https://www.epa.gov/ground-water-and-drinking-water/lead-and-copper-rule-improvements no later than October 24, 2022, for the October 25, 2022, meeting and October 31, 2022, for the November 1, 2022, meeting. Individuals are also invited to speak about environmental justice considerations for the proposed LCRI during the meetings. Those interested in speaking can sign-up to make brief verbal remarks as a part of their registration. EPA will do its best to include all those interested in attending and requesting verbal input but may have to limit attendance due to web conferencing size or limit verbal remarks due to meeting time limitations; therefore, EPA urges people to register early. Meeting information and web conferencing meeting details, including telephone call-in information, will be emailed to registered participants in advance of each of the meetings. If you have any questions about registering for the public meeting or need help joining, please email LCRIMeetingSupport@cadmusgroup.com. If you have additional questions or comments about the meeting, please email LCRI@epa.gov.

Special Accommodations: For information on electronic access or accommodations for individuals with disabilities or other requested assistance (e.g., language translation), please contact Zaineb Alattar at (202) 564-9458 or by email at LCRI@epa.gov. Please allow at least five business days prior to each of the meetings to give EPA time to process your request.

II. The Proposed LCRI National Primary Drinking Water Regulation

Under SDWA, EPA sets public health goals and enforceable standards for drinking water quality. EPA initially addressed lead in drinking water through the original Lead and Copper Rule (LCR), an NPDWR promulgated in 1991 under SDWA. In January 2021, EPA issued the Lead and Copper Rule Revisions (LCRR) and subsequently reviewed those revisions to further evaluate the LCRR's protection of families and communities, particularly those that have been disproportionately impacted by lead in drinking water. In the LCRR Review, EPA identified the following priority areas for improvement: proactive and equitable lead service line replacement, strengthening compliance tap sampling to better identify communities most at risk of lead in drinking water and to compel lead reduction actions, and reducing the complexity of the regulation through improvement of the action and trigger level construct. On December 16, 2021, EPA announced it would propose a rulemaking (the LCRI) to address these improvements. For more information about the LCRR Review and the agency's decision to develop a proposed LCRI NPDWR, see “Review of the National Primary Drinking Water Regulation: Lead and Copper Rule Revisions (LCRR)” (86 FR 71574) (December 17, 2021). EPA intends to propose for public comment a new rule to revise the LCRR to advance the goals described above while balancing stakeholder interests and incorporating required economic, environmental justice, and other analyses. The agency intends to propose the LCRI in 2023 and take final action by October 16, 2024.

Jennifer L. McLain,
Director, Office of Ground Water and Drinking Water.

[FR Doc. 2022-21857 Filed 10-7-22; 8:45 am]

BILLING CODE 6560-50-P